DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Autauga County, Alabama, and Incorporated Areas
FEMA Docket No.: B-7759
Autauga Creek | 365 feet southwest of the intersection of First Street and Chestnut St. (Landward of Levee along Autauga Creek) | + 180 | City of Prattville.
| 300 feet northwest of the intersection of Lower Kingston Road and Sixth St. (Landward of Levee along Autauga Creek) | + 196
* National Geodetic Vertical Datum.
+ North American Vertical Datum.
# Depth in feet above ground.
ADDRESSES
City of Prattville
Maps are available for inspection at 101 W. Main Street, Prattville, AL 36067.
Tulare County, California and Incorporated Areas
Docket No.: FEMA-D-7644 and FEMA-B-7763
Kaweah River | At Mill Creek/Packwood Creek Split | + 363 | Unincorporated Areas of Tulare County.
| At downstream side of Southern Pacific Railroad | + 390
Shallow Flooding (extensive area covering 19 map panels) | Approximately 1,000 feet southeast of intersection of State Highway 99 and Goshen Avenue | +282 | Unincorporated Areas of Tulare County, City of Farmersville, City of Visalia.
| Approximately 350 feet southwest of intersection of Lort Drive | + 391
St. Johns River | Approximately 0.5 mile upstream of Avenue 328 Bridge | + 317 | Unincorporated Areas of Tulare County, City of Visalia.
| Approximately 220 feet downstream of Southern Pacific Railroad | + 378
Sheet Flow west of Sand Creek | Approximately 0.47 mile downstream of Avenue 440 | #1 | Unincorporated Areas of Tulare County.
| Approximately 0.56 mile upstream of Avenue 440 | #1
* National Geodetic Vertical Datum.
+ North American Vertical Datum.
# Depth in feet above ground.
ADDRESSES
Unincorporated Areas of Tulare County
Maps available for inspection at Tulare County Resource Management Agency, 5961 South Mooney Boulevard, Visalia, California.
City of Farmersville
Maps available for inspection at Farmersville City Hall, 909 West Visalia Road, Farmersville, California.
City of Visalia
Maps available for inspection at Visalia City Hall East, 315 East Acequia, Visalia, California.
Washington County, Idaho, and Incorporated Areas
FEMA Docket No.: B-7773
Monroe Creek | Approximately 350 feet downstream of Union Pacific Railroad | + 2108 | City of Weiser.
| Approximately 50 feet downstream of Park Street | + 2125
* National Geodetic Vertical Datum.
+ North American Vertical Datum.
# Depth in feet above ground.
ADDRESSES
City of Weiser
Maps are available for inspection at 55 West Idaho Street, Weiser, ID 83672.
Crittenden County, Kentucky, and Incorporated Areas
FEMA Docket No.: B-7783
Ohio River | Approximately at confluence with Deer Creek (at upstream county boundary) | + 355 | Unincorporated Areas of Crittenden County.
| Approximately at confluence with Tradewater River (at downstream county boundary) | + 362
* National Geodetic Vertical Datum.
+ North American Vertical Datum.
# Depth in feet above ground.
ADDRESSES
Unincorporated Areas of Crittenden County
Maps are available for inspection at 107 South Main Street, Marion, KY 42064.
Harrison County, Mississippi, and Incorporated Areas
FEMA Docket No.: B-7757
Back Bay of Biloxi/Big Lake | Near the intersection of Popps Ferry Road and Causeway Drive | + 15 | City of D'Iberville, City of Biloxi, Unincorporated Areas of Harrison County.
| Near the intersection of Interstate 110 and Bay Shore Drive | + 21
Bay of Biloxi | Near the intersection of D'Iberville Boulevard and Lamey Bridge Road | + 16 | City of Biloxi, City of D'Iberville, Unincorporated Areas of Harrison County.
| At Harrison/Jackson county boundary near U.S. Highway 90 | + 23
Bernard Bayou | Approximately 350 feet upstream of Interstate 10 | + 15 | Unincorporated Areas of Harrison County, City of Gulfport.
| Approximately 3,000 feet upstream of Mennonite Road | + 87
Bernard Bayou Tributary 3 | At the confluence with Bernard Bayou | + 23 | Unincorporated Areas of Harrison County.
| Approximately 5,808 feet upstream of Orange Grove Road | + 44
Bernard Bayou Tributary 4 | At the confluence with Bernard Bayou Tributary 3 | + 24 | Unincorporated Areas of Harrison County, City of Gulfport.
| Approximately 1,900 feet upstream of Lambrecht Road | + 64
Bernard Bayou Tributary 5 | At the confluence with Bernard Bayou Tributary 4 | + 40 | Unincorporated Areas of Harrison County, City of Gulfport.
| Approximately 850 ft upstream of Pheasant Drive | + 65
Bernard Bayou Tributary 6 | At the confluence with Bernard Bayou | + 28 | Unincorporated Areas of Harrison County.
| Approximately 300 feet upstream of Orange Grove Road | + 52
Big Creek | Approximately 29,040 feet upstream of the confluence with Wolf River | + 55 | Unincorporated Areas of Harrison County.
| Approximately 32,208 feet upstream of the confluence with Wolf River | + 58
Biloxi River | Approximately 100 feet upstream of Lorraine Rd | + 15 | City of Biloxi, City of Gulfport, Unincorporated Areas of Harrison County.
| At Harrison/Stone county boundary | + 104
Brickyard Bayou | Approximately 200 feet upstream of 8th Ave | + 13 | City of Gulfport.
| Approximately 250 feet upstream of Stewart Avenue | + 30
Brickyard Bayou/Bernard Bayou/Turkey Creek | Near intersection of 8th Avenue and Pass Road | + 12 | City of Gulfport.
| Near the intersection of Ridge Road and Taylor Road | + 18
Canal No. 1 | Approximately 2,100 feet upstream of Epsy Ave | + 18 | City of Pass Christian, Unincorporated Areas of Harrison County.
| Approximately 2,900 feet upstream of Epsy Ave | + 18
Canal No. 3 | Approximately 1,000 feet downstream of Epsy Ave | + 17 | Unincorporated Areas of Harrison County, City of Long Beach.
| Approximately 1,000 feet downstream of Beatline Rd | + 19
Crow Creek | Approximately 19,008 feet upstream of the confluence with Biloxi River | + 95 | Unincorporated Areas of Harrison County.
| Approximately 24,816 feet upstream of the confluence with Biloxi River | + 101
Flat Branch | At the confluence with Bernard Bayou | + 15 | Unincorporated Areas of Harrison County, City of Gulfport.
| Approximately 8,976 feet upstream of the confluence with Flat Branch Tributary 2 | + 66
Flat Branch Tributary 1 | Approximately 1,450 feet downstream of Hamilton Street | + 22 | City of Gulfport.
| Approximately 3,900 feet upstream of Robinson Road | + 58
Flat Branch Tributary 2 | At the confluence with Flat Branch | + 53 | City of Gulfport.
| Approximately 2,450 feet upstream of the confluence with Flat Branch | + 56
Fritz Creek | Approximately 3,400 feet upstream of Lorraine Rd | + 15 | City of Gulfport.
| Approximately 850 feet upstream of Three Rivers Road | + 56
Fritz Creek Tributary 1 | Shallow flooding area bound by O'Neal Road to the North, Mays Road to the South, Crystal Weel Court to the West, and Three Rivers Road to the East | # 2 | City of Gulfport.
| Approximately 100 feet upstream of Three Rivers Road | + 52
| Approximately 1,050 feet upstream of O'Neal Road | + 60
Fritz Creek Tributary 2 | At the confluence with Fritz Creek | + 39 | City of Gulfport, Unincorporated Areas of Harrison County.
| Approximately 1,650 feet upstream of Three Rivers Road | + 58
Gulf of Mexico/Mississippi Sound | Near the intersection of Main Street and Water Street | + 17 | City of Biloxi, City of Gulfport, City of Long Beach, City of Pass Christian, Unincorporated Areas of Harrison County.
| Near the intersection of Espy Avenue and U.S. Highway 90 | + 26
Hickory Creek | Approximately 3,850 feet upstream of McHenry Road | + 121 | Unincorporated Areas of Harrison County.
| Approximately 7,920 feet upstream of McHenry Road | + 128
Hog Branch | Approximately 1,800 feet upstream of the confluence with Tuxachanie Creek | + 36 | Unincorporated Areas of Harrison County.
| Approximately 10,032 feet upstream of South Carr Bridge Road | + 98
Howard Creek | Approximately 2,700 feet upstream of Old Highway 67 | + 15 | City of Biloxi.
| Approximately 3,300 feet upstream of Old Highway 67 | + 16
Little Biloxi River | Approximately 150 feet downstream of McHenry Road | + 120 | Unincorporated Areas of Harrison County.
| Approximately 6,700 feet upstream of McHenry Road | + 129
Mill Creek | Approximately 4,900 feet upstream of State Highway 53 | + 104 | Unincorporated Areas of Harrison County.
| Approximately 8,976 feet upstream of State Highway 53 | + 114
Palmer Creek | Approximately 3,800 feet upstream of Wortham Road | + 76 | Unincorporated Areas of Harrison County.
| Approximately 9,200 feet upstream of Wortham Road | + 87
Parker Creek | Approximately 430 feet upstream of Woolmarket Rd | + 15 | City of Biloxi, Unincorporated Areas of Harrison County.
| Approximately 9,504 feet upstream of State Highway 67 | + 75
Pole Branch | Approximately 270 feet downstream of Cable Bridge Road | + 61 | Unincorporated Areas of Harrison County.
| Approximately 3,200 feet upstream of Cable Bridge Road | + 68
Ponding Area | Ponding area bound by Irish Hill Drive to the North, West Howard Avenue to the South, Porter Avenue to the West, and Iroquois Street to the East | + 21 | City of Biloxi.
Ponding Areas | Near intersection of Big Lake Road and Lejeune Drive | + 25 | City of Biloxi.
| Near intersection of Irish Hill Drive and Brister Place | + 29
Sandy Creek | Approximate 1,200 feet downstream of Steel Bridge Road | + 72 | Unincorporated Areas of Harrison County.
| Approximately 2,500 ft upstream of Steel Bridge Road | + 75
Saucier Creek | Approximately 1,200 feet upstream of State Highway 67 | + 92 | Unincorporated Areas of Harrison County.
| Just downstream of Martha Redmond Road | + 111
Shallow Flooding | Shallow flooding bounded by West 2nd Street to the North, Scenic Drive to the South, Leovy Avenue to the West, and Paul Dunbar Avenue to the East | # 1 | City of Pass Christian.
St. Louis Bay/Wolf River/Canal No. 1/Canal No. 3 | Near the intersection of Red Creek Road and Menge Avenue | + 17 | Unincorporated Areas of Harrison County, City of Pass Christian.
| At Harrison/Hancock county boundary south of Interstate 10 | + 26
Tchoutacabouffa River | Approximately 5,400 feet upstream of State Highway 15 | + 14 | City of Biloxi, Unincorporated Areas of Harrison County.
| Approximately 5,000 feet upstream of the confluence with Railroad Creek | + 75
Tchoutacabouffa River/Biloxi River | Near intersection of Old Highway 67 and Woolmarket Road | + 13 | City of Gulfport, City of Biloxi, City of D'Iberville, Unincorporated Areas of Harrison County.
| Near the intersection of Pin Oak Drive and Oaklawn Road | + 19
Turkey Creek | Approximately 2,250 feet downstream of Airport Road | + 14 | City of Gulfport, Unincorporated Areas of Harrison County.
| Approximately 3,350 feet upstream of Ohio Avenue | + 16
Tuxachanie Creek | Approximately 1,050 feet downstream of Whit Plains Rd | + 34 | Unincorporated Areas of Harrison County.
| Approximately 21,120 feet upstream of Bethel Road | + 95
West Creek | Approximately 2,000 feet downstream of State Highway 67 | + 85 | Unincorporated Areas of Harrison County.
| Approximately 10,032 feet upstream of State Highway 67 | + 95
Wolf River | Approximately 9,700 feet upstream of Bells Ferry Road | + 19 | Unincorporated Areas of Harrison County.
| Approximately 1,000 feet downstream of I-10 | + 21
* National Geodetic Vertical Datum.
+ North American Vertical Datum.
# Depth in feet above ground.
ADDRESSES
City of Biloxi
Maps are available for inspection at Floodplain Management, 676 Dr. Martin Luther King Boulevard, Biloxi, MS 39533.
City of D'Iberville
Maps are available for inspection at 10383 Automall Parkway, D'Iberville, MS 39540.
City of Gulfport
Maps are available for inspection at Department of Urban Development—Building Codes Services, 2200 15th Street, Trailer B-5, Gulfport, MS 39501.
City of Long Beach
Maps are available for inspection at Building Code Office, 645 Klondike Road, Long Beach, MS 39560.
City of Pass Christian
Maps are available for inspection at Building Code Office, 203 Fleitas Avenue, Pass Christian, MS 39571.
Unincorporated Areas of Harrison County
Maps are available for inspection at County Code Office, 15309 Community Road, Gulfport, MS 39503.
Camden County, New Jersey and Incorporated Areas
Docket No.: FEMA-B-7762
Mason Run | At a point located approximately 1,700 feet upstream of the confluence with North Branch Big Timber Creek | + 20 | Borough of Lindenwold, Borough of Pine Hill, Township of Gloucester.
| At a point located approximately 100 feet upstream of Blackwood-Clementon Road/County Route 534 | + 35
North Branch Big Timber Creek | At a point approximately 400 feet upstream from the confluence of Mason Run | + 18 | Borough of Clementon, Borough of Laurel Springs, Borough of Lindenwold, Borough of Stratford.
| At a point located approximately 2,240 feet upstream of East Atlantic Avenue/State Route 727 | + 43
* National Geodetic Vertical Datum.
+ North American Vertical Datum.
# Depth in feet above ground.
ADDRESSES
Borough of Clementon
Maps are available for inspection at Clementon Borough Hall, 101 Gibbsboro Road, Clementon, New Jersey.
Borough of Laurel Springs
Maps are available for inspection at Laurel Springs Borough Hall, 135 Broadway Avenue, Laurel Springs, New Jersey.
Borough of Lindenwold
Maps are available for inspection at Lindenwold Borough Construction Office, 2001 Egg Harbor Road, Lindenwold, New Jersey.
Borough of Pine Hill
Maps are available for inspection at Pine Hill Borough Hall, 45 West 7th Avenue, Pine Hill, New Jersey.
Borough of Stratford
Maps are available for inspection at Stratford Borough Hall, 307 Union Avenue, Stratford, New Jersey.
Township of Gloucester
Maps are available for inspection at Township of Gloucester Municipal Building, 1261 Chews Landing Road, Blackwood, New Jersey.
Rowan County, North Carolina and Incorporated Areas
Docket Nos.: FEMA-D-7806 and FEMA-D-7814
Back Creek | At the confluence with North Second Creek | + 672 | Unincorporated Areas of Rowan County.
| At the Iredell/Rowan County boundary | + 760
Back Creek Tributary 1 | At the confluence with Back Creek | + 759 | Unincorporated Areas of Rowan County.
| At the Iredell/Rowan County boundary | + 763
Beaverdam Creek (East) | At the confluence with North Second Creek | + 655 | Unincorporated Areas of Rowan County.
| Approximately 0.4 mile upstream of NC Highway 801 | + 718
Beaverdam Creek (West) | At the confluence with Withrow Creek | + 684 | Unincorporated Areas of Rowan County, Town of Cleveland.
| Approximately 2.1 miles upstream of Umberger Road | + 851
Bell Branch | At the confluence with South Yadkin River | + 697 | Unincorporated Areas of Rowan County.
| Approximately 1,500 feet upstream of the confluence with South Yadkin River | + 697
Bost Branch | At the confluence with Second Creek | + 669 | Town of Rockwell.
| Approximately 1,655 feet upstream of the confluence with Second Creek | + 676
Bostian Heights Branch | Approximately 150 feet upstream of Scercy Road (State Road 1346) | + 742 | Unincorporated Areas of Rowan County.
| Approximately 225 feet upstream of Daugherty Road (State Road 1243) | + 763
Cedar Creek | At the confluence with Yadkin River | + 578 | Unincorporated Areas of Rowan County.
| Approximately 0.4 mile upstream of River Road (State Road 2152) | + 578
Church Creek | At the confluence with Crane Creek/High Rock Lake | + 626 | Unincorporated Areas of Rowan County, Town of Granite Quarry.
| Approximately 1.0 mile upstream of U.S. Highway 52 | +759
Church Creek Tributary 1 | At the confluence with Church Creek | + 660 | Unincorporated Areas of Rowan County, Town of Granite Quarry.
| Approximately 380 feet downstream of U.S. Highway 52 | + 770
Church Creek Tributary 1A | At the confluence with Church Creek Tributary 1 | + 660 | Unincorporated Areas of Rowan County, Town of Granite Quarry.
| Approximately 0.5 mile upstream of Fish Pond Road | + 752
Church Creek Tributary 2 | At the confluence with Church Creek | + 733 | Unincorporated Areas of Rowan County, Town of Granite Quarry.
| Approximately 100 feet downstream of Percy Lane | + 757
Coddle Creek | At the Iredell/Rowan/Cabarrus County boundary | + 674 | Unincorporated Areas of Rowan County.
| Approximately 40 feet upstream of the confluence of East Fork Creek | + 674
Cold Water Creek | At Moose Road (State Road 1308) | + 650 | Unincorporated Areas of Rowan County.
| Approximately 0.5 mile upstream of Moose Road (State Road 1308) | + 653
Cold Water Creek Tributary 1 | At Interstate 85 | + 661 | Unincorporated Areas of Rowan County.
| Approximately 520 feet upstream of Old Beatty Ford Road (State Road 1211) | + 663
Crane Creek | Approximately 0.5 mile downstream of the confluence of Town Creek | + 626 | Unincorporated Areas of Rowan County, City of Salisbury, Town of East Spencer, Town of Granite Quarry.
| At the downstream side of U.S. Highway 52 | + 701
Crane Creek Tributary 1 | At the confluence with Crane Creek | + 626 | Unincorporated Areas of Rowan County.
| Approximately 0.9 mile upstream of Lake Fork Road (State Road 2170) | + 651
Crane Creek Tributary 2 | Approximately 2,400 feet upstream of the confluence with Crane Creek | + 735 | Town of Faith.
| Approximately 220 feet upstream of Cemetery Drive | + 862
Crane Creek/High Rock Lake | Entire shoreline within Rowan County | + 626 | Unincorporated Areas of Rowan County.
| Entire shoreline within Rowan County | + 626
Draft Branch | At the confluence with Grants Creek | + 672 | City of Salisbury.
| Approximately 1.0 mile upstream of the confluence with Grants Creek | + 672
Dutch Buffalo Creek Tributary 1 | Approximately 20 feet downstream of the Cabarrus/Rowan County boundary | + 688 | Unincorporated Areas of Rowan County.
| At the Rowan/Cabarrus County boundary | + 688
East Fork Creek | At the confluence with Coddle Creek | + 674 | Unincorporated Areas of Rowan County.
| Approximately 2.0 miles upstream of Unity Church Road (State Road 1355) | + 802
Fisher Branch | At the confluence with Second Creek | + 670 | Unincorporated Areas of Rowan County, Town of Rockwell.
| Approximately 60 feet downstream of Fisher Road (State Road 2320) | + 740
Flat Creek | At the confluence with Yadkin River | + 574 | Unincorporated Areas of Rowan County.
| Approximately 1.3 miles upstream of River Road (State Road 2152) | + 589
Flat Rock Branch | At the confluence with Grants Creek | + 760 | Unincorporated Areas of Rowan County, Town of Landis.
| Approximately 1.1 miles upstream of the confluence with Grants Creek | + 787
Fourth Creek | At the confluence with South Yadkin River | + 656 | Unincorporated Areas of Rowan County.
| Approximately 500 feet upstream of the Iredell/Rowan County boundary | + 730
Fourth Creek Tributary 4 | At the confluence with Fourth Creek | + 708 | Unincorporated Areas of Rowan County.
| Approximately 0.5 mile upstream of the confluence with Fourth Creek | + 711
Fourth Creek Tributary 5 | At the confluence with Fourth Creek | + 709 | Unincorporated Areas of Rowan County.
| Approximately 360 feet upstream of Baker Mill Road (State Road 1957) | + 713
Grants Creek | At the confluence with Yadkin River | + 643 | Unincorporated Areas of Rowan County, City of Salisbury, Town of China Grove, Town of Landis, Town of Spencer.
| Approximately 1,190 feet upstream of North Meriah Street | + 835
Grants Creek Tributary 2 | Approximately 1,000 feet upstream of the confluence with Grants Creek | + 675 | City of Salisbury.
| Approximately 0.4 mile upstream of the confluence with Grants Creek | + 688
Grants Creek Tributary 3 | Approximately 1,750 feet upstream of the confluence with Grants Creek | + 678 | City of Salisbury.
| Approximately 0.4 mile upstream of the confluence with Grants Creek | + 680
Grants Creek Tributary 4 | Approximately 2,000 feet upstream of the confluence with Grants Creek | + 681 | City of Salisbury, Unincorporated Areas of Rowan County.
| Approximately 1,700 feet downstream of National Guard Road | + 689
Henderson Branch | At the confluence with Grants Creek | + 647 | City of Salisbury.
| Approximately 1,500 feet upstream of the confluence with Grants Creek | + 647
Hopkins Street Branch | At the confluence with Town Creek | + 705 | City of Salisbury.
| Approximately 250 feet upstream of the confluence with Town Creek | + 705
Innis Street Creek | At the confluence with Town Creek | + 697 | City of Salisbury.
| Just downstream of North Arlington Street | + 697
Irish Buffalo Creek | Approximately 0.5 mile upstream of Cannon Farm Road | + 737 | Unincorporated Areas of Rowan County.
| Approximately 1.3 miles upstream of Echo Hollow Drive | + 865
Irish Buffalo Creek Tributary 4 | Approximately 0.6 mile upstream of the confluence with Irish Buffalo Creek | + 744 | Unincorporated Areas of Rowan County, Town of Landis.
| Approximately 0.9 mile upstream of the confluence with Irish Buffalo Creek | + 760
Irish Buffalo Creek Tributary 5 | Approximately 0.6 mile upstream of the confluence with Irish Buffalo Creek | + 747 | Town of Landis.
| Approximately 0.8 mile upstream of the confluence with Irish Buffalo Creek | + 752
Jump and Run Branch | At the confluence with Grants Creek | + 658 | City of Salisbury.
| Approximately 380 feet upstream of Willow Road | + 763
Kerr Creek | At the confluence with Sloans Creek | + 680 | Unincorporated Areas of Rowan County.
| Approximately 1.4 miles upstream of Corriher Springs Road (State Road 1554) | + 845
Klutz Branch | Approximately 75 feet upstream of the confluence with Legion Park Branch | + 759 | Town of Granite Quarry.
| Approximately 970 feet upstream of Peeler Street | + 776
Lake Wright Branch | At the confluence with Grants Creek | + 715 | Town of China Grove, Unincorporated Areas of Rowan County.
| Approximately 1,600 feet upstream of the confluence with Grants Creek | + 716
Legion Park Branch | Approximately 150 feet upstream of the confluence with Trexler Creek | + 706 | Unincorporated Areas of Rowan County, Town of Granite Quarry.
| Approximately 150 feet upstream of South Oak Street | + 796
Little Creek | At the confluence with Grants Creek | + 691 | Unincorporated Areas of Rowan County.
| Approximately 2,400 feet upstream of the confluence with Grants Creek | + 692
Little Creek (South) | At the confluence with Third Creek | + 720 | Unincorporated Areas of Rowan County.
| At the Iredell/Rowan County boundary | + 748
Lomax Creek | At the confluence with Grants Creek | + 644 | Town of Spencer.
| Approximately 750 feet upstream of the confluence with Grants Creek | + 644
Mahaley Branch | At the confluence with Grants Creek | + 649 | City of Salisbury.
| Approximately 1,650 feet upstream of the confluence with Grants Creek | + 649
Mill Creek | Approximately 250 feet downstream of the Rowan/Cabarrus County boundary | + 713 | Unincorporated Areas of Rowan County.
| Approximately 400 feet upstream of Smith Road (State Road 1361) | + 799
North Second Creek | At the confluence with South Yadkin River | + 651 | Unincorporated Areas of Rowan County.
| At the confluence of Back Creek | + 672
Park Avenue Branch | At the confluence with Town Creek | + 690 | City of Salisbury.
| Approximately 700 feet upstream of the confluence with Town Creek | + 690
Park Creek | At the Rowan/Cabarrus County boundary | + 679 | Unincorporated Areas of Rowan County.
| Approximately 0.5 mile upstream of Smith Road (State Road 1360) | + 810
Peeler Branch | At the confluence with Second Creek Tributary 1 | + 656 | Unincorporated Areas of Rowan County, Town of Rockwell.
| Approximately 500 feet upstream of Sides Road | + 711
Petrea Branch | At the confluence with Grants Creek | + 714 | Town of China Grove.
| Approximately 180 feet upstream of Spring Branch Road | + 765
Riles Creek | At the confluence with Yadkin River | + 572 | Unincorporated Areas of Rowan County.
| Approximately 150 feet upstream of the Rowan/Stanly County boundary | + 572
Rocky Branch | At the confluence with Grants Creek | + 644 | Town of Spencer.
| Approximately 1,200 feet upstream of the confluence with Grants Creek | + 644
Rocky Branch Tributary 1 | At the confluence with Rocky Branch | + 650 | Unincorporated Areas of Rowan County, City of Salisbury, Town of Spencer.
| Approximately 0.5 mile upstream of Pickett Avenue | + 708
Rowan Avenue Park Stream | At the confluence with Grants Creek | + 644 | Unincorporated Areas of Rowan County, Town of Spencer.
| Approximately 150 feet upstream of Charles Street | + 644
Second Creek | At the Rowan/Davidson County boundary | + 625 | Town of Rockwell, Unincorporated Areas of Rowan County.
| Approximately 0.7 mile upstream of the confluence of Second Creek Tributary 3 | + 810
Second Creek Tributary 1 | At the confluence with Second Creek | + 640 | Unincorporated Areas of Rowan County.
| Approximately 190 feet downstream of Lower Palmer Road (State Road 2343) | + 657
Second Creek Tributary 2 | At the confluence with Second Creek | + 663 | Unincorporated Areas of Rowan County, Town of Rockwell.
| Approximately 450 feet upstream of Miller Street | + 735
Second Creek Tributary 3 | At the confluence with Second Creek | + 747 | Unincorporated Areas of Rowan County.
| Approximately 200 feet upstream of Shuping Mill Road (State Road 2663) | + 827
Sills Creek | At the confluence with Back Creek | + 680 | Unincorporated Areas of Rowan County.
| At the Iredell/Rowan County boundary | + 812
Sills Creek Tributary 1 | At the confluence with Sills Creek | + 702 | Unincorporated Areas of Rowan County.
| Approximately 0.6 mile upstream of the confluence with Sills Creek | + 710
Sixth Street Branch | At the confluence with Grants Creek | + 644 | Town of Spencer.
| Approximately 700 feet upstream of the confluence with Grants Creek | + 644
Sloans Creek | At the confluence with Back Creek | + 672 | Unincorporated Areas of Rowan County.
| Approximately 0.4 mile upstream of Brown Road (State Road 1211) | + 844
South Yadkin River | At the confluence with Yadkin River | + 648 | Unincorporated Areas of Rowan County, City of Salisbury.
| At the Iredell/Davie/Rowan County boundary | + 697
Third Creek | At the confluence with Fourth Creek | + 670 | Town of Cleveland, Unincorporated Areas of Rowan County.
| Just upstream of the Iredell/Rowan County boundary | + 723
Third Street Creek | At the confluence with Grants Creek | + 644 | Town of Spencer.
| Approximately 1,260 feet upstream of the confluence with Grants Creek | + 644
Thomas Street Creek | At the confluence with Town Creek | + 703 | City of Salisbury.
| At South Boundary Street | + 703
Town Creek | At the confluence with Crane Creek/High Rock Lake | + 627 | Unincorporated Areas of Rowan County, City of Salisbury, Town of East Spencer.
| Approximately 350 feet upstream of Klumac Road | + 714
Town Creek Tributary 1 | At the confluence with Town Creek | + 645 | Unincorporated Areas of Rowan County, Town of East Spencer.
| Approximately 110 feet upstream of Tanglewood Drive | + 714
Trexler Creek | Approximately 960 feet upstream of the confluence with Crane Creek | + 708 | Town of Granite Quarry.
| Approximately 0.2 mile upstream of U.S. Highway 52 | + 831
Unnamed Stream 1 | At the confluence with Fourth Creek | + 678 | Unincorporated Areas of Rowan County.
| Approximately 0.9 mile upstream of Mount Vernon Road (State Road 1986) | + 688
Unnamed Stream 2 | At the confluence with Fourth Creek | + 720 | Unincorporated Areas of Rowan County.
| Approximately 0.5 mile downstream of Rary Road (State Road 1978) | + 723
Vance Avenue Branch | At the confluence with Town Creek | + 708 | City of Salisbury.
| Approximately 460 feet upstream of the confluence with Town Creek | + 708
Wildlife Tributary | At the confluence with Draft Branch | + 672 | City of Salisbury.
| Approximately 0.5 mile upstream of the confluence with Draft Branch | + 672
Withrow Creek | At the confluence with North Second Creek | + 665 | Unincorporated Areas of Rowan County.
| At the Iredell/Rowan County boundary | + 743
Woodleaf Branch (East) | At the confluence with Grants Creek | + 670 | City of Salisbury.
| Approximately 100 feet upstream of 4th Street | + 707
Woodleaf Branch (West) | At the confluence with Withrow Creek | + 730 | Unincorporated Areas of Rowan County.
| At the Iredell/Rowan County boundary | + 767
Yadkin River | Approximately 500 feet downstream of the Rowan/Davidson/Stanly/Montgomery County boundary | + 566 | Unincorporated Areas of Rowan County, Town of Spencer.
| At the confluence of South Yadkin River | + 648
* National Geodetic Vertical Datum.
+ North American Vertical Datum.
# Depth in feet above ground.
ADDRESSES
City of Salisbury
Maps are available for inspection at the Salisbury City Hall, 217 South Main Street, Salisbury, North Carolina.
Town of China Grove
Maps are available for inspection at the China Grove Town Hall, 205 Swink Street, China Grove, North Carolina.
Town of Cleveland
Maps are available for inspection at the Cleveland Town Hall, 302 East Main Street, Cleveland, North Carolina.
Town of East Spencer
Maps are available for inspection at the East Spencer Town Hall, 105 South Long Street, East Spencer, North Carolina.
Town of Faith
Maps are available for inspection at the Faith Town Hall, 100 North Main Street, Faith, North Carolina.
Town of Granite Quarry
Maps are available for inspection at the Granite Quarry Town Hall, 143 North Salisbury Avenue, Granite Quarry, North Carolina.
Town of Landis
Maps are available for inspection at the Landis Town Hall, 312 South Main Street, Landis, North Carolina.
Town of Rockwell
Maps are available for inspection at the Rockwell Town Hall, 202 East Main Street, Rockwell, North Carolina.
Town of Spencer
Maps are available for inspection at the Spencer Town Hall, 600 South Salisbury Avenue, Spencer, North Carolina.
Unincorporated Areas of Rowan County
Maps are available for inspection at the Rowan County Planning Department, 130 West Innes Street, Salisbury, North Carolina.
Perry County, Pennsylvania, and Incorporated Areas
FEMA Docket No.: B-7760
Juniata River | Approximately 8,820 feet downstream of State Highway 17 (Sunbury Street) | + 402 | Township of Tuscarora.
| Approximately 5,420 feet upstream of State Highway 17 (Sunbury Street) | + 408
Little Buffalo Creek | Approximately 5,200 feet upstream of State Route 4010 | + 428 | Township of Juniata.
| Approximately 5,340 upstream of State Route 4010 | + 428
Losh Run | Approximately 410 feet downstream of Conrail Railroad | + 369 | Township of Miller.
| Approximately 930 feet upstream of Conrail Railroad | + 369
Losh Run | Approximately 495 feet downstream of Conrail Railroad | + 369 | Township of Wheatfield.
| Approximately 880 feet upstream of Conrail Railroad | + 369
Raccoon Creek | Approximately 30 feet downstream of Local Route 50024 | + 405 | Township of Tuscarora.
| Approximately 1,150 feet upstream of Local Route 50024 | + 405
Sugar Run | Approximately 605 downstream of Hill Road (T-432) | + 404 | Township of Tuscarora.
| Approximately 330 feet upstream of Hill Road (T-432) | + 404
* National Geodetic Vertical Datum.
+ North American Vertical Datum.
# Depth in feet above ground.
ADDRESSES
Township of Juniata
Maps are available for inspection at 16 Milford Rd, Newport, PA 17074.
Township of Miller
Maps are available for inspection at 55410 Limekiln Lane, Duncannon, PA 17020.
Township of Tuscarora
Maps are available for inspection at 72 Cementery Rd, Millerstown, PA 17062.
Township of Wheatfield
Maps are available for inspection at Rt. 274, New Bloomfield Road, New Bloomfield, PA 17068.
Raleigh County, West Virginia, and Incorporated Areas
FEMA Docket No.: B-7771
Soak Creek | Approximately 100 feet downstream of State Route 29 | + 2305 | Unincorporated Areas of Raleigh County, Town of Sophia.
| Approximately 80 feet upstream of McKinney Hollow Road | + 2328
* National Geodetic Vertical Datum.
+ North American Vertical Datum.
# Depth in feet above ground.
ADDRESSES
Town of Sophia
Maps are available for inspection at Sophia Town Hall, 100 East Railroad Avenue, Sophia, WV 25921.
Unincorporated Areas of Raleigh County
Maps are available for inspection at Raleigh County Commission Building, 116 1/2 North Heber Street, Beckley, WV 25801.

(Catalog of Federal Domestic Assistance No. 97.022, “Flood Insurance.”)

Dated: December 31, 2008.
Michael K. Buckley,
Acting Assistant Administrator, Mitigation Directorate, Department of Homeland Security, Federal Emergency Management Agency.

[FR Doc. E9-73 Filed 1-7-09; 8:45 am]

BILLING CODE 9110-12-P